OFFICE OF SPECIAL COUNSEL

Proposed Information Collection Activities; Request for Comment

AGENCY: U.S. Office of Special Counsel.

ACTION: Notice.

SUMMARY: In accordance with the requirements of the Paperwork Reduction Act of 1995 (44 U.S.C., chapter 35), and implementing regulations at 5 CFR Part 1320, this is the second Federal Register notice published by the U.S. Office of Special Counsel (OSC) about proposed information collection activities, consisting of two forms for the collection of information pursuant to OSC regulations at 5 CFR 1800.1 (Filing complaint of prohibited personnel practices or other prohibited activities.) and 5 CFR 1800.2 (Filing disclosures of information). OSC is requesting approval from the Office of Management and Budget (OMB) to extend the use of two previously approved information collections: (1) Form OSC-11 (Complaint of Possible Prohibited Personnel Practice or Other Prohibited Activity); and (2) Form OSC-12 (Disclosure of Information), as revised. Revisions include: (1) Style, format, and other minor changes, such as requests for fax numbers, e-mail addresses, and details of certain allegations in a different format; (2) addition of explanatory information about OSC jurisdiction, the elements required to prove some claims, and certain procedural rights; and (3) description of new and revised Privacy Act routine uses published by OSC after the last OMB approval. OSC anticipates that this additional information will add to the burden estimate for Form OSC-11, which has been increased since OMB's last approval from one hour to one hour and 15 minutes. OMB's current approval for these collections of information expires on August 31, 2000.

On April 17, 2000, notice of this request for OMB approval with a request for public comment was published in the Federal Register at 65 FR 20504. The notice and the proposed forms were also posted on OSC's Web site (at www.osc.gov) on April 18, 2000. No comments on these information collections were received.

Since the April notices, typographical and other non-substantive have been made to the proposed complaint form. Changes have also been made in the estimated annual number of respondents and corresponding annual burden hours reported in first Federal Register notice with respect to both forms, based on recalculations of the number of complaints and disclosures that may be filed during the three-year period for which OMB approval is sought.

Federal employees, other federal agencies, and the general public are invited to comment on OSC's information collection activities relating to possible prohibited employment practices and whistleblower disclosures.

DATES: Comments should be received on or before August 4, 2000.

ADDRESSES: Comments should be sent to the Office of Information and Regulatory Affairs at the Office of Management and Budget, Attention: Desk Officer for U.S. Office of Special Counsel, Old Executive Office Building, Washington, DC 20503. A copy of any comments should also be sent to Kathryn Stackhouse, U.S. Office of Special Counsel, Planning and Advice Division, 1730 M Street, NW., Washington, DC 20036-4505.

FOR FURTHER INFORMATION CONTACT: Copies of the collections of information and supporting documentation are available from Kathryn Stackhouse or Marlene M. Cleaveland, U.S. Office of Special Counsel, Planning and Advice Division, 1730 M Street, NW, Suite 300, Washington, DC 20036-4505; telephone (202) 653-8971; facsimile (202) 653-5151.

SUPPLEMENTARY INFORMATION: Comment is requested on the following two collections of information:

Title of Collection: Complaint of Possible Prohibited Personnel Practice or Other Prohibited Activity.

Agency Form Number: OSC-11 (OMB Control Number 3255-0002).

Summary of the Collection of Information: This form is intended for use by current and former federal employees, and applicants for federal employment, in filing allegations with OSC of prohibited personnel practices and other prohibited activity with OSC's jurisdiction.

Need for Information and Proposed Use: This information is needed by OSC to investigate and seek any appropriate remedies for allegations of prohibited personnel practices and other prohibited activity, pursuant to its statutory authority at 5 U.S.C. 1211, et seq.

Likely Respondents: Current and former federal employees, and applicants for federal employment.

Estimated Annual Number of Respondents: 1771.

Frequency: On occasion.

Estimated Average Burden Per Respondent: 1 hour and 15 minutes.

Estimated Annual Burden: 2214 hours.

Title of Collection: Disclosure of Information.

Agency Form Number: OSC-12 (OMB Control Number 3255-0002).

Summary of the Collection of Information: This form is intended for use by current and former federal employees, and applicants for federal employment, in making whistleblower disclosures of violations of any law, rule, or regulation; gross mismanagement; a gross waste of funds; an abuse of authority; or a substantial and specific danger to public health or safety.

Need for Information and Proposed Use: This information is needed by OSC to review whistleblower disclosures of wrongdoing in federal agencies, and to refer disclosures in appropriate cases to the head of the agency involved for investigation, pursuant to its statutory authority at 5 U.S.C. 1211, et seq.

Likely Respondents: Current and former federal employees, and applicants for federal employment.

Estimated Annual Number of Respondents: 475.

Frequency: On occasion.

Estimated Average Burden Per Respondent: 1 hour.

Estimated Annual Burden: 475 hours.

The two proposed forms described above are available on OSC's Web site (at www.osc.gov).

Dated: June 29, 2000.
Erin M. McDonnell,
Associate Special Counsel for Planning and Advice.

[FR Doc. 00-16945 Filed 7-3-00; 8:45 am]

BILLING CODE 7405-01-P